DEPARTMENT OF THE INTERIOR

National Park Service

[N6425; NPS-WASO-NAGPRA-NPS0040832; PPWOCRADN0-PCU00RP14.R50000]

Notice of Intended Repatriation: University of Michigan, Ann Arbor, MI

AGENCY: National Park Service, Interior.

ACTION: Notice.

SUMMARY: In accordance with the Native American Graves Protection and Repatriation Act (NAGPRA), the University of Michigan intends to repatriate certain cultural items that meet the definition of unassociated funerary objects that have a cultural affiliation with the Indian Tribes or Native Hawaiian organizations in this notice.

DATES: Repatriation of the cultural items in this notice may occur on or after September 19, 2025.

ADDRESSES: Send additional, written requests for repatriation of the cultural items in this notice to Dr. Ben Secunda, NAGPRA Office Managing Director, University of Michigan, Office of Research, Suite G269, Lane Hall, Ann Arbor, MI 48109-1274, email bsecunda@umich.edu.

SUPPLEMENTARY INFORMATION: This notice is published as part of the National Park Service's administrative responsibilities under NAGPRA. The determinations in this notice are the sole responsibility of the University of Michigan, and additional information on the determinations in this notice, including the results of consultation, can be found in the summary or related records. The National Park Service is not responsible for the determinations in this notice.

Abstract of Information Available

A total of 10 cultural items have been requested for repatriation. The 10 unassociated funerary objects is one lot of a groundstone celt, one lot of modified shells; one lot of modified shell with possible copper staining; one lot of modified shell, possible weight; one lot of modified and possibly unmodified clam shell fragments; one lot of possible hammerstone/cobble; one lot of earthenware body sherds; one lot of possibly unworked fish bone fragments; one lot of modified gastropod Columellae shell central spiral fragments; and one lot of modified gastropod Columellae shell central spiral fragment.

In February of 1946, nine lots of cultural items were removed from the Goodland Point site (8CR45, 8CR 46), Collier Co., FL. The cultural items were removed from the site by Violet K. Hanley and donated to the University of Michigan Museum of Anthropological Archaeology in 1950.

On an unknown date prior to 1915, one lot of cultural items were removed from the Deep Creek site, St. Johns Co., FL. The cultural item was donated to the University of Michigan Museum of Anthropological Archaeology by David DePue.

The University of Michigan has no record of, nor do its officials have any knowledge of, any treatment of items with pesticides, preservatives, or other substances that represent a potential hazard to the collection(s) or to persons handling the collection(s).

Determinations

The University of Michigan has determined that:

• The 10 unassociated funerary objects described in this notice are reasonably believed to have been placed intentionally with or near human remains (hereinafter referred to as “Ancestral remains”), and are connected, either at the time of death or later as part of the death rite or ceremony of a Native American culture according to the Native American traditional knowledge of a lineal descendant, Indian Tribe, or Native Hawaiian organization. The unassociated funerary objects have been identified by a preponderance of the evidence as related to Ancestral remains, specific individuals, or families, or removed from a specific burial site or burial area of an individual or individuals with cultural affiliation to an Indian Tribe or Native Hawaiian organization.

• There is a connection between the cultural items described in this notice and the Miccosukee Tribe of Indians; Seminole Tribe of Florida; and The Seminole Nation of Oklahoma.

Requests for Repatriation

Additional, written requests for repatriation of the cultural items in this notice must be sent to the authorized representative identified in this notice under ADDRESSES. Requests for repatriation may be submitted by any lineal descendant, Indian Tribe, or Native Hawaiian organization not identified in this notice who shows, by a preponderance of the evidence, that the requestor is a lineal descendant or a culturally affiliated Indian Tribe or Native Hawaiian organization.

Repatriation of the cultural items in this notice to a requestor may occur on or after September 19, 2025. If competing requests for repatriation are received, the University of Michigan must determine the most appropriate requestor prior to repatriation. Requests for joint repatriation of the cultural items are considered a single request and not competing requests. The University of Michigan is responsible for sending a copy of this notice to the Indian Tribes and Native Hawaiian organizations identified in this notice and to any other consulting parties.

Authority: Native American Graves Protection and Repatriation Act, 25 U.S.C. 3004 and the implementing regulations, 43 CFR 10.9.

Dated: August 5, 2025.
Melanie O'Brien,
Manager, National NAGPRA Program.

[FR Doc. 2025-15849 Filed 8-19-25; 8:45 am]

BILLING CODE 4312-52-P